DEPARTMENT OF ENERGY

Federal Energy Regulatory Commission

[Docket No. IC16-4-000]

Commission Information Collection Activities (FERC-500, FERC-542); Consolidated Comment Request; Extension; Errata Notice

On December 14, 2015, the Commission published a “60-day Public Notice” in the above-captioned proceeding, Commission Information Collection Activities (FERC-500, FERC-542); Consolidated Comment Request; Extension. ¹

¹ 80 FR 79322, December 21, 2015.

This errata notice serves to correct the section and associated table for the FERC-542 (Gas Pipeline Rates: Rate Tracking, OMB Control No. 1902-0070).

The Abstract should indicate that the FERC-542 also includes the reporting requirements in 18 CFR 154.401 (research, development, and demonstration [RD&D] expenditures) and 18 CFR 154.403 (Periodic rate adjustments). In the table for FERC-542, the correct number of respondents is 87, with an average of 2.13 responses per respondent and a total of 185 responses.

With the updates stated above, the correct total annual burden hours is 370, and the correct total annual cost is $26,640.

Dated: February 3, 2016.
Nathaniel J. Davis, Sr.,
Deputy Secretary.

[FR Doc. 2016-02508 Filed 2-8-16; 8:45 am]

BILLING CODE 6717-01-P